DEPARTMENT OF THE INTERIOR

National Park Service

Notice of Intent To Prepare a General Management Plan/ Environmental Impact Statement for Mount Rushmore National Memorial, SD

AGENCY: National Park Service, Department of the Interior.

ACTION: Notice of intent to prepare a General Management Plan/ Environmental Impact Statement for Mount Rushmore National Memorial, South Dakota.

SUMMARY: Pursuant to Section 102(2)(C) of the National Environmental Policy Act of 1969 (42 U.S.C. 4332(2)(C)), the National Park Service (NPS) is announcing its intent to prepare a General Management Plan/Environmental Impact Statement (GMP/EIS) for Mount Rushmore National Memorial (Memorial), South Dakota. This effort will update the 1980 GMP.

The GMP/EIS will establish the overall direction for the Memorial, setting broad management goals for managing the area over the next 15 to 20 years. The GMP/EIS will prescribe desired resource conditions and visitor experiences that are to be achieved and maintained throughout the Memorial based on such factors as the Memorial's purpose, significance, special mandates, the body of laws and policies directing Memorial management, resource analysis, and the range of public expectations and concerns. The GMP/EIS also will outline the kinds of resource management activities, visitor activities, and developments that would be appropriate in the Memorial in the future.

A range of reasonable alternatives for managing the Memorial will be developed through this planning process and will include, at a minimum, a no-action and a preferred alternative. Major issues the GMP/EIS will address include changes in visitor use patterns and special events, adequacy and sustainability of existing facilities for visitor opportunities and activities and for Memorial operations, and partnership roles and opportunities. The need for new facilities such as maintenance, museum curation and storage, and interpretation will be examined. The GMP/EIS will evaluate the potential environmental effects of the alternative management approaches.

As the first phase of the planning process, the NPS is beginning to scope the issues to be addressed in the GMP/EIS. All interested persons, organizations, Agencies, and Tribes are encouraged to submit comments and suggestions on issues and concerns that should be addressed in the GMP/EIS, and the range of appropriate alternatives that should be examined.

DATES: The NPS will begin public scoping soon. Public scoping meetings regarding the GMP, including specific dates, times, and locations, will be announced in the local media, at the Web site http://parkplanning.nps.gov/, or by contacting the Superintendent.

ADDRESSES: General park information requests or requests to be added to the project mailing list should be directed to: Gerard Baker, Superintendent, Mount Rushmore National Memorial, 13000 Highway 244, Building 31, Suite 1, Keystone, South Dakota 57751-0268; telephone: 605-574-2523; e-mail: moru_gmp@nps.gov.

If you wish to comment on any issues associated with the GMP/EIS, you may submit your comments by any one of several methods. You may mail comments to Mount Rushmore National Memorial, 13000 Highway 244, Building 31, Suite 1, Keystone, South Dakota 57751-0268. Once the public comment period commences, you may comment via the Internet at http://www.planning.nps.gov/; simply select Mount Rushmore National Memorial from the list of parks, and then select the GMP/EIS. Finally, you may hand-deliver comments to the Memorial at the address above.

Before including your address, telephone number, e-mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, or organizations or businesses available for public inspection in their entirety.

FOR FURTHER INFORMATION, CONTACT: Greg Jarvis, Project Manager, Planning Division, Denver Service Center, National Park Service, 12795 West Alameda Parkway, P.O. Box 25287, Denver, Colorado 80225-0287; telephone: 303-969-2263; or e-mail: greg_jarvis@nps.gov. General information about Mount Rushmore National Memorial is available on the Internet at http://www.nps.gov/moru.

Dated: November 4, 2008.
Ernest Quintana,
Regional Director, Midwest Region.

[FR Doc. E8-28232 Filed 11-25-08; 8:45 am]

BILLING CODE 4310-70-P